DEPARTMENT OF TRANSPORTATION

Federal Aviation Administration

14 CFR Part 71

[Docket No. FAA-2008-0024; Airspace Docket No. 08-AGL-4]

Amendment of Class E Airspace; Black River Falls, WI

AGENCY: Federal Aviation Administration (FAA), DOT.

ACTION: Direct final rule; removal.

SUMMARY: A direct final rule, published in the Federal Register April 2, 2008 (73 FR 17888) docket No. FAA-2008-0024, adding additional Class E airspace at Black River Falls, WI is being removed. Although the rule became effective June 5, 2008, charting of this airspace was never completed. A new rulemaking will be forthcoming with an effective date that coincides with the new charting date.

DATES: Effective Date: 0901 UTC July 18, 2008.

FOR FURTHER INFORMATION CONTACT: Gary Mallett, Central Service Center, Operations Support Group, Federal Aviation Administration, Southwest Region, 2601 Meacham Blvd., Fort Worth, Texas 76193-0530; telephone number (817) 222-4949.

SUPPLEMENTARY INFORMATION:

History

On April 2, 2008, the FAA published a direct final rule; request for comments, in the Federal Register (73 FR 17888) Docket No. FAA-2008-0024, amending the existing Class E airspace at Black River Falls Area Airport, Black River Falls, WI. No comments were received therefore the rule became effective on the date specified, June 5, 2008. It was then determined that the airspace had not been charted. Therefore, the FAA is removing this action from the Federal Register publication system and will issue a new rulemaking with a new effective date to coincide with the charting date.

List of Subjects in 14 CFR Part 71

Airspace, Incorporation by reference, Navigation (Air).

Removal of the Rule

Accordingly, pursuant to the authority delegated to me, Airspace Docket No. 08-AGL-4, as published in the Federal Register on April 2, 2008 (73 FR 17888), is hereby removed.

Authority: 49 U.S.C. 106(g); 40103, 40113, 40120; E.O. 10854, 24 FR 9565, 3 CFR, 1959-1963 Comp., p. 389.

Issued in Fort Worth, TX, on July 1, 2008.
Donald R. Smith,
Manager, Operations Support Group, ATO Central Service Center.

[FR Doc. E8-15960 Filed 7-17-08; 8:45 am]

BILLING CODE 4910-13-M